DEPARTMENT OF THE INTERIOR

Fish and Wildlife Service

Notice of Availability, Draft Restoration Plan and Environmental Assessment

AGENCY: U.S. Fish and Wildlife Service, Department of the Interior.

ACTION: Notice of availability.

SUMMARY: The U.S. Fish and Wildlife Service (Service), on behalf of the Department of the Interior (DOI) and the State of Vermont, announces the release for public review of the draft Restoration Plan and Environmental Assessment (RP/EA) for the Burgess Brothers, Inc. and Tansitor Electronics, Inc. Superfund Sites. The RP/EA describes the Trustees' proposal to restore natural resources injured as a result of the release of hazardous substances from the Sites.

DATES: Written comments must be submitted on or before June 30, 2004.

ADDRESSES: Requests for copies of the RP/EA may be made to: U.S. Fish and Wildlife Service, New England Field Office, 70 Commercial Street, Suite 300, Concord, New Hampshire 03301.

Written comments or materials regarding the RP/EA should be sent to the same address.

FOR FURTHER INFORMATION CONTACT: Kenneth Munney or Molly B. Sperduto, Environmental Contaminants Program, U.S. Fish and Wildlife Service, 70 Commercial Street, Suite 300, Concord, New Hampshire 03301.

Interested parties may also call 603-223-2541 for further information.

SUPPLEMENTARY INFORMATION: The Burgess Brothers, Inc. and the Tansitor Electronics Inc. Superfund Sites are located in the Hoosic River drainage in Bennington and Woodford, Vermont. Hazardous waste products from the manufacture of batteries, primarily lead sludge, and other refuse were deposited at the Burgess Site until 1976. Contamination, erosion and remedial activities resulted in the permanent destruction of approximately 0.6 acres of palustrine emergent and forested wetland habitat. In 1999, the United States of America and the State of Vermont settled claims for natural resource damages associated with the Burgess Site under the authority of the Comprehensive Environmental Response, Compensation, and Liability Act (CERCLA) of 1980.

At the Tansitor Site, approximately 1,100 feet of stream were contaminated with silver and other metals due to waste disposal activities. In 1998, the United States of America and the State of Vermont settled claims for natural resource damages associated with the Tansitor Site.

Settlement proceeds from the two Superfund Sites will be used to compensate for loss of natural resources under trusteeship of the DOI and the State of Vermont. A combined restoration initiative is proposed to allow for a larger, more effective and meaningful resource restoration.

The RP/EA is being released in accordance with the CERCLA of 1980 as amended, commonly known as Superfund, (42 U.S.C. 9601 et seq.), the Natural Resource Damage Assessment Regulations found at 43 CFR, part 11, and the National Environmental Policy Act (NEPA). It is intended to describe the Trustees' proposals to restore natural resources injured at the Sites and evaluate the potential impacts of each.

The RP/EA describes a number of habitat restoration and protection alternatives and discusses the environmental consequences of each. Restoration efforts which have the greatest potential to restore wetlands and streams and the services those resources provide to wildlife are preferred. Based on an evaluation of the various restoration alternatives, the restoration of degraded wetland and upland habitat at an inactive gravel pit is proposed. This alternative maximizes the benefit to wildlife, restoring approximately 2 acres of wetlands and associated downstream habitat and at least 7 acres of upland grassland habitat.

Interested members of the public are invited to review and comment on the RP/EA. Copies of the RP/EA are available for review at the Service's New England Field Office in Concord, New Hampshire (70 Commercial Street, Suite 300, Concord, New Hampshire). Additionally, the RP/EA will be available for review at the Service's Web site (http://northeast.fws.gov/nh/neforevi.html) and at the Bennington Free Library. Written comments will be considered and addressed in the final RP/EA at the conclusion of the restoration planning process.

Author: The primary author of this notice is Molly Sperduto, U.S. Fish and Wildlife Service, New England Field Office, 70 Commercial Street, Suite 300, Concord, New Hampshire 03301.

Authority: The authority for this action is the CERCLA of 1980 as amended, commonly known as Superfund, (42 U.S.C. 9601 et seq.), and the Natural Resource Damage Assessment Regulations found at 43 CFR, part 11.

Dated: May 28, 2004.
Marvin E. Moriarty,
Regional Director, Region 5, U.S. Fish and Wildlife Service, U.S. Department of the Interior.

[FR Doc. 04-13914 Filed 6-18-04; 8:45 am]

BILLING CODE 4310-55-P